DEPARTMENT OF HOMELAND SECURITY

Coast Guard

[Docket No. USCG-2006-24163]

National Environmental Policy Act; Draft Environmental Impact Statement on U.S. Coast Guard Pacific Area Operations

AGENCY: Coast Guard, DHS.

ACTION: Notice of availability; request for public comments.

SUMMARY: The U.S. Coast Guard, with the National Marine Sanctuary Program West Coast Region as a cooperating agency, announces the availability of the Draft Environmental Impact Statement (DEIS) to implement enhanced environmental protection measures to the Coast Guard's operations in the areas of responsibility for Coast Guard Districts 11 (California) and 13 (Oregon and Washington) for public review and comment. The DEIS analyzes the environmental impacts of routine Coast Guard vessel and air operations when engaged in the following missions and activities: Law enforcement, national security, search and rescue, aids to navigation, and oil pollution and vessel grounding response. This analysis does not include live fire exercises.

Comments and suggestions are invited from all interested parties to ensure that the full range and significance of issues related to this proposed action are identified. The Coast Guard has established a Web site at the address below to provide the public with additional information. http://pacareaeis.uscg.e2m-inc.com.

DATES: Comments and related materials must reach the Docket Management Facility on or before February 17, 2009.

ADDRESSES: You may submit comments identified by Coast Guard Docket Number USCG-2006-24163 to the Docket Management Facility at the U.S. Department of Transportation. To avoid duplication, please use only one of the following methods:

(1) Online: http://www.regulations.gov.

(2) By mail: Docket Management Facility (M-30), U.S. Department of Transportation, West Building Ground Floor, Room W12-140, 1200 New Jersey Avenue, SE., Washington, DC 20590.

(3) Fax: 202-493-2251.

(4) Delivery: Room W12-140 on the Ground Floor of the West Building, 1200 New Jersey Avenue, SE., Washington, DC, between 9 a.m. and 5 p.m., Monday through Friday, except Federal holidays. The telephone number is 202-366-9329.

FOR FURTHER INFORMATION CONTACT: If you have questions on this notice, the proposed project, or the associated draft Environmental Impact Statement, contact LT Jeff Bray, Coast Guard Commandant, CG-0942, JEFF.R.BRAY@USCG.MIL or telephone 202-372-3752. If you have questions on viewing or submitting material to the docket, call Renee V. Wright, Program Manager, Docket Operations, telephone 202-366-9826.

SUPPLEMENTARY INFORMATION:

Public Participation and Request for Comments

We encourage you to submit comments and related material on the Draft Environmental Impact Statement (DEIS). Publication of this notice begins the official 45-day public comment period that will help refine the alternatives being considered. The Coast Guard provides this notice to advise the public and other agencies of the Coast Guard's intentions, to obtain suggestions and information on the issues and alternatives included in the DEIS, and to request comments from those parties that may be interested or affected by these proposed alternatives.

All comments received will be posted, without change, to http://www.regulations.gov, docket number USCG-2006-24163, and will include any personal information you have provided.

If you submit a comment, please include your name and address, identify the docket number for this notice (USCG-2006-26143), indicate the specific section of this document to which each comment applies, and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a self-addressed, stamped postcard or envelope. We will consider all comments received during the comment period.

Proposed Action

The Coast Guard proposes to develop and implement enhanced protective measures, as necessary, for marine protected species and marine protected areas that occur in the Eleventh Coast Guard District (California) (CGD11) and Thirteenth Coast Guard District (Washington and Oregon) (CGD13) areas of responsibility. The Coast Guard proposes this action to aid in the fulfillment of its missions, including protection of the environment, while fulfilling Coast Guard obligations to protect living marine resources. The Coast Guard published a notice of intent to prepare this EIS in the Federal Register (71 FR 14233, March 21, 2006).

The Proposed Action will be accomplished by (1) establishing a baseline (i.e., analyzing the No Action Alternative) of the significance of the environmental impact of current routine Coast Guard vessel and aircraft operations on the coastal and marine environment within the CGD11 and CGD13 areas of responsibility, with particular focus paid to impacts on marine protected species and marine protected areas; and (2) identifying and analyzing alternative measures which could be implemented to avoid or minimize adverse impacts on marine protected species and marine protected areas. Specifically, the Proposed Action is intended to incorporate measures that will help reduce the environmental impact of Coast Guard vessel and aircraft operations on marine protected species and marine protected areas when engaged in the following routine missions and activities: Law enforcement, national security, search and rescue, aids to navigation, and oil pollution and vessel grounding response. Live fire exercises were not included within this analysis. Budget and legal limitations dictate that any proposed measures be cost effective. Therefore, to be viable, proposed measures would have to further the Coast Guard's natural resource protection mission without compromising its ability to perform other missions.

The Coast Guard is committed to conducting operations in a manner that supports conservation and recovery of marine protected species and marine protected areas. The Proposed Action will further the Coast Guard's environmental protection mission while recognizing and supporting accomplishment of the Coast Guard's full mission portfolio.

Alternatives to the Proposed Action

The DEIS evaluates a variety of actions, listed below as Alternatives 1 through 6, to determine whether modification or supplementation of current procedures is required to accomplish the wide variety of Coast Guard missions in a manner that lessens the probability of adverse impacts on marine protected species and marine protected areas. Alternative 1, the No Action Alternative, documents baseline strategies the Coast Guard currently employs to protect marine resources in the CGD11 and CGD13 areas of responsibility. Alternatives 2 through 5 present discrete actions and are evaluated individually to determine whether their implementation is reasonable and would serve the purpose and need of minimizing and avoiding negative impacts on marine protected species and marine protected areas. Alternatives 2 through 5 are designed to augment or otherwise amend all those actions described in the No Action Alternative. Alternative 6, the Coast Guard's Preferred Alternative, represents a combination of select components of Alternatives 1 through 5.

Alternative 1—No Action Alternative: Under the No Action Alternative, the Coast Guard would continue current operations, without augmentation or modification. Existing strategic plans, directives, guidance, and permits would continue to guide Coast Guard vessel and aircraft operations in a manner intended to minimize, to the maximum extent possible, adverse impacts on marine protected species and marine protected areas. The level of protected living marine resource efforts would continue to be balanced with other Coast Guard missions and requirements, and would remain constantly in flux due to other mission responsibilities and operational tempo.

Alternative 2—Implement Improved Local Operating Procedures; Revise Coast Guard Speed and Approach Guidance; and Enhance Law Enforcement Operations To Include “Pulse Operations”: This alternative would amend, append, eliminate portions of, or wholly incorporate the No Action Alternative and would build upon the existing Protected Living Marine Resources Program (PLMRP) at each District by formalizing localized operational mitigation procedures and protection efforts, strengthening and expanding Coast Guard speed and approach guidance, and better unifying inter-District and intra-District law enforcement strategies, including engaging in “pulse operations.”

Alternative 3—Enhance Marine Protected Species and Marine Protected Area Awareness Training for Coast Guard Personnel: This alternative would amend, append, eliminate portions of, or wholly incorporate the No Action Alternative and would build upon the existing PLMRP at each District by requiring the Coast Guard to review, and if necessary, enhance, training for Officer of the Deck (OOD), coxswain, vessel lookouts and Air Station personnel.

Alternative 4—Implement a Web-based Whale Reporting Program: This alternative would amend, append, eliminate portions of, or wholly incorporate the No Action Alternative and would build upon the existing PLMRP at each District by implementing a Whale Reporting Program for CGD11 and CGD13 surface and aviation units. This reporting program would establish a real-time, Web-based whale reporting protocol within the ROI. This program would be maintained centrally by Coast Guard Pacific Area (PACAREA) personnel and would collect vital information on real-time locations of live, dead, injured, or entangled whales. The following information would be collected each time a whale is sighted: Time and location of sighting; distinctive features of the animal; estimated length; signs of injury or entanglement; description of behavior; description of any injuries; condition of carcass for dead whales; and contact information of reporter. The Web site would allow for regional sorting so that units could prepare for a patrol by logging on to the Web site and receiving vital real-time sighting information for the area they would be transiting or patrolling.

Alternative 5—Strengthen Partnerships To Facilitate Marine Protected Species and Marine Protected Area Public Outreach Programs: This alternative would amend, append, eliminate portions of, or wholly incorporate the No Action Alternative and would build upon the existing PLMRP at each District by strengthening joint partnerships and efforts to support the conservation and recovery of marine protected species and marine protected areas.

Alternative 6—Preferred Alternative: Under the Preferred Alternative, the Coast Guard would further minimize or avoid impacts to marine protected species and marine protected areas by strengthening its current operations (No Action Alternative) by incorporating some of the various additional components described in Alternatives 2, 3 and 5. Specifically, this would entail:

A. Implementing Improved Local Operating Procedures, Revised Guidance, and Enhanced Law Enforcement Operations

• Annually review and update formal Protected Living Marine Resource Programs (PLMRPs) for the Districts.

• Require all Sectors, Air Stations and major Cutters to designate a Marine Protected Species (MPS) Point of Contact (POC).

• Update and amend speed and approach guidance (e.g., Guidance on Vessel Speed and Approach Around Whales message) to include both vessels and aircraft and continue to update regularly.

• Require each District to plan, execute, and document one collaborative marine protected species-driven pulse operation per year, thereby utilizing resources and the subject matter expertise of our partners.

B. Enhancing In-House Marine Protected Species and Marine Protected Area Training

• Enhance regional lookout, coxswain, and deck watch officer skills by providing CGD11 and CGD13 units a standardized regionally-focused marine protected species awareness training module. Module will include methods for detecting, identifying, and avoiding marine protected species and marine protected areas. Require personnel to demonstrate proof of knowledge of marine protected species sections of unit SOPs and knowledge of Speed and Approach Guidance.

C. Enhancing Partnerships To Facilitate Marine Protected Species and Marine Protected Area Outreach and Conservation

• Require each District to participate in one collaborative marine protected species public outreach campaign per year.

• Broadcast Notice to Mariners (NTMs) advising caution in known areas of high marine protected species concentration in bays.

• Include National Oceanic and Atmospheric Administration (NOAA), National Marine Sanctuary Program (NMSP) and U.S. Fish and Wildlife Service (USFWS) educational resources on PACAREA's Internet public domain.

• Utilize the Coast Guard Auxiliary and Sea Partners Program as main vehicles for public outreach; provide educational materials to the Coast Guard Auxiliary and Sea Partners.

We request comments from all interested parties to ensure that the full range and significance of issues related to this proposed action are identified. The Coast Guard requests that comments be as specific as possible with regard to the issues associated with the proposed action, alternatives, and analysis.

Dated: November 24, 2008.
David P. Pekoske,
Vice Admiral, United Stated Coast Guard, Pacific Area Commander.

[FR Doc. E8-30104 Filed 12-17-08; 8:45 am]

BILLING CODE 4910-15-P